DEPARTMENT OF VETERANS AFFAIRS

National Research Advisory Council Notice of Meeting—Cancellation

The Department of Veterans Affairs (VA) gives notice under the Federal Advisory Committee Act, 5 U.S.C. App. 2, that the meeting of the National Research Advisory Council previously scheduled to be held on Wednesday, June 2, 2021, as a virtual meeting, has been cancelled.

For more information, please contact Dr. Marisue Cody, Designated Federal Officer at (202) 443-5681, or via email at marisue.cody@va.gov.

Dated: May 19, 2021.
LaTonya L. Small,
Federal Advisory Committee Management Officer.

[FR Doc. 2021-10967 Filed 5-24-21; 8:45 am]

BILLING CODE P